DEPARTMENT OF THE TREASURY

Internal Revenue Service

Advisory Group to the Internal Revenue Service Tax Exempt and Government Entities Division (TE/GE); Meeting

AGENCY: Internal Revenue Service (IRS); Tax Exempt and Government Entities Division, Treasury.

ACTION: Notice.

SUMMARY: The Advisory Committee on Tax Exempt and Government Entities (ACT) will hold a public meeting on Thursday, June 7, 2018.

FOR FURTHER INFORMATION CONTACT: Mark O'Donnell, TE/GE Communications and Liaison; 1111 Constitution Ave. NW; SE:T:GESS:CL-NCA 676; Washington, DC 20224. Email address: tege.advisory.comm@irs.gov.

SUPPLEMENTARY INFORMATION: By notice herein given, pursuant to section 10(a)(2) of the Federal Advisory Committee Act, 5 U.S.C. App. (1988), a public meeting of the ACT will be held on Thursday, June 7, 2018, from 2:00 p.m. to 4:00 p.m., at the Internal Revenue Service; 1111 Constitution Ave. NW; Room 3313; Washington, DC. Issues to be discussed relate to Employee Plans, Exempt Organizations and Government Entities. Reports from five ACT subgroups cover the following topics:

• Recommendations Regarding Re-Opening the Determination Letter Program in Certain Circumstances

• Recommendations Regarding Missing Participants

• Recommendations Regarding Incentivizing Universal E-Filing for Form 990

• Recommendations Regarding IRS Sharing of Taxpayer Information with Tribal Government Tax Programs

• Recommendations to Encourage Self Compliance by Issuers of Tax-Advantaged Obligations

Last minute agenda changes may preclude advance notice. Due to limited seating and security requirements, attendees need to email attendance request to tege.advisory.comm@irs.gov by May 28, 2018. Attendees are encouraged to arrive at least 30 minutes before the meeting begins to allow sufficient time for security clearance. Photo identification must be presented. Please use the main entrance at 1111 Constitution Ave. NW to enter the building. Should you wish the ACT to consider a written statement, please write to: Internal Revenue Service; 1111 Constitution Ave. NW; SE:T:GESS:CL-NCA 676, Washington, DC 20224, or email tege.advisory.comm@irs.gov.

Dated: April 20, 2018.
Mark F. O'Donnell,
Designated Federal Officer, Tax Exempt and Government Entities Division, Internal Revenue Service.

[FR Doc. 2018-08734 Filed 4-25-18; 8:45 am]

BILLING CODE 4830-01-P